DEPARTMENT OF VETERANS AFFAIRS

Veterans Rural Health Advisory Committee, Notice of Meeting

The Department of Veterans Affairs (VA) gives notice under the Federal Advisory Committee Act, 5 U.S.C. 10, that the Veterans Rural Health Advisory Committee will hold an in-person meeting at the Alaska VA Health Care System, 1201 North Muldoon Road, Anchorage, AK 99504. The meeting dates are scheduled Wednesday, April 26, 2023 through Thursday, April 27, 2023. The meeting sessions will convene each day at 9:00 a.m., Alaska Daylight Time (AKDT) and adjourn each day at 5:00 p.m. (AKDT).

The meeting sessions are open to the public.

The purpose of the Committee is to advise the Secretary of VA on rural health care issues affecting Veterans. The Committee examines programs and policies that impact the delivery of VA rural health care to Veterans and discusses ways to improve and enhance VA access to rural health care services for Veterans.

The agenda will include updates from Department leadership; the Acting Executive Director, VA Office of Rural Health; and the Committee Chair; as well as presentations by subject-matter experts on general rural health care access.

Anyone interested in joining the meeting virtually can do so via Zoom, click the link (https://us06web.zoom.us/j/86520849393), Meeting ID (i.e., 865 2084 9393), and phone number (1-646-558-8656) will be provided for the individuals who cannot attend in person.

Public comments will be received at 4:30 p.m. (AKDT) on April 27, 2023. Interested persons should contact Ms. Judy Bowie, via email at VRHAC@va.gov, or mail at 810 Vermont Avenue NW (12POP7), Washington, DC 20420. Individuals wishing to speak are invited to submit a 1-2-page summary of their comment for inclusion in the official meeting record. Any member of the public seeking additional information should contact Ms. Bowie at the phone number or email address noted above.

Dated: April 11, 2023.
Jelessa M. Burney,
Federal Advisory Committee Management Officer.

[FR Doc. 2023-07926 Filed 4-13-23; 8:45 am]

BILLING CODE 8320-01-P